DEPARTMENT OF EDUCATION

[CFDA No. 84.361]

Office of Elementary and Secondary Education-Notice Inviting applications for New Awards for Fiscal Year (FY) 2002

Correction

In notice document 02-16889 beginning on page 44815 in the issue of Friday, July 5, 2002, make the following corrections:

On page 44816, in the second and third columns, the text should read as follows:

* * * * *

(c) Partnership/Interdistrict Approach (up to 5 points). The project would establish a partnership that implements an interdistrict approach to carrying out a public school choice program.

These priorities are specified in the authorizing statute for the program (see section 5244 of the ESEA). The priority points are in addition to any points the applicant earns under the selection criteria listed below. The Secretary may select an application that meets a priority over an application of comparable merit that does not meet the priority. The maximum number of points an application may earn based on the priority points and the selection criteria is 115 points.

Selection Criteria: The Secretary will use the selection criteria in 34 CFR 75.210 and selection criteria based on statutory provisions to evaluate applications for new grants under this competition. The maximum possible score for all of the selection criteria is 100 points. The maximum score for each criterion is indicated in parenthesis with the criterion. The criteria are as follows:

(a) Need for the Project (up to 10 points). The Secretary considers the need for the proposed project. In determining the need for the proposed project, the Secretary considers the magnitude of the need for the services to be provided or the activities to be carried out by the proposed project.

(b) Significance (up to 15 points). The Secretary considers the significance of the proposed project. In determining the significance of the proposed project, the Secretary considers the following factors:

(1) The likelihood that the proposed project will result in system change or improvement.

(2) The extent to which the proposed project is likely to build local capacity to provide, improve, or expand services ( i.e., choice options) that address the needs of the target population.

(3) The potential replicability of the proposed project or strategies, including, as appropriate, the potential for implementation in a variety of settings.

(c) Quality of Project Design (up to 40 points). The Secretary considers the quality of the design of the proposed project. In determining the quality of the design of the proposed project, the Secretary considers the following factors:

(1) The extent to which the proposed project encourages parental involvement and ensures that parents have high-quality information about their choices.

(2) The extent to which the goals, objectives, and outcomes to be achieved by the proposed project are clearly specified and measurable.

(3) The extent to which the design for implementing and evaluating the proposed project will result in information to guide possible replication of project activities or strategies, including information about the effectiveness of the approach or strategies employed by the project.

(4) The extent to which the proposed project is designed to build capacity and yield results that will extend beyond the period of Federal financial assistance.

(5) The extent to which the design of the proposed project reflects up-to-date knowledge from research and effective practice.

(6) The extent to which the proposed project will be coordinated with similar or related efforts, and with other appropriate community, State, and Federal resources.

(d) Quality of Project Services (up to 25 points). The Secretary considers the quality of the services to be provided by the proposed project. In determining the quality of the services to be provided by the proposed project, the Secretary considers the following factors:

(1) The likelihood that the services to be provided by the proposed project will lead to improvements in the achievement of students, as measured against rigorous academic standards.

(2) The extent to which the services to be provided by the proposed project involve the effective collaboration of appropriate partners for maximizing the effectiveness of project services.

(3) The quality and sufficiency of strategies for ensuring equal access and treatment for eligible project participants who are members of groups that have traditionally been underrepresented based on race, color, national origin, gender, age, or disability.

(e) Quality of Management Plan (up to 10 Points). The Secretary considers the quality of the management plan for the proposed project. In determining the quality of the management plan for the proposed project, the Secretary considers the adequacy of the management plan to achieve the objectives of the proposed project on time and within budget, including whether it includes clearly defined responsibilities, timelines, and milestones for accomplishing project tasks.

Required Use of Funds

An eligible entity that receives a grant under this subpart must use grant funds to provide students selected to participate in the program with transportation services or to pay the cost of transportation to and from the public elementary schools and secondary schools, including, if applicable, charter schools, that the students choose to attend under the program.

* * * * *

[FR Doc. C2-16889 Filed 7-11-02; 8:45 am]

BILLING CODE 1505-01-D